DEPARTMENT OF ENERGY

Federal Energy Regulatory Commission

[Docket No. RM06-16-000]

Mandatory Reliability Standards for the Bulk Power System; Notice of Extension of Time

October 1, 2009.

On September 30, 2009, the North American Electric Reliability Corporation (NERC) filed a request for an extension of time to file comments in response to the Commission's September 10, 2009 notice ¹ requesting comments on the Topological and Impedance Element Ranking (TIER) Report in the above-docketed proceeding. In its motion, NERC states that it requires additional time to address questions that were raised at a public presentation for the TIER report and to submit responsive comments.

¹ Mandatory Reliability Standards for the Bulk Power System, RM06-16-000 (Notice of Public Meeting) (September 10, 2009).

Upon consideration, notice is hereby given that an extension of time for filing comments on the TIER report is granted to and including October 28, 2009.

Kimberly D. Bose,
Secretary.

[FR Doc. E9-24253 Filed 10-7-09; 8:45 am]

BILLING CODE 6717-01-P